Proclamation 10031 of May 8, 2020

National Defense Transportation Day and National Transportation Week, 2020

By the President of the United States of America

A Proclamation

Our Nation's transportation infrastructure system is central to the ability of our manufacturers and exporters to get their goods to market and provides vital support for our national defense. On National Defense Transportation Day and during National Transportation Week, we recognize the critical contributions of the hardworking and dedicated Americans who ensure the safety, efficiency, and reliability of our transportation infrastructure systems.

Our Nation has a proven history of transportation innovation and might. We built the Transcontinental Railroad that led to today's interconnected freight rail network, engineered interstate highways and inland river infrastructure that connect the heartlands to our coastlines and beyond, and pioneered aviation with the advent of flight in Kitty Hawk. Our legacy of innovative practices, combined with the American spirit, has led to a robust, intricately connected country.

After decades of use, however, many of our Nation's roads, rails, ports, and airports are in disrepair. One of the chief causes of delay in infrastructure improvements is the broken permitting process. Completing the average environmental impact statement (EIS) process for highway projects takes more than 7 years. Some have taken more than a decade. To improve Federal agency coordination and make environmental reviews and permitting processes far less time-consuming, I directed Federal agencies to implement a One Federal Decision policy and complete environmental reviews for major infrastructure projects within 2 years. My Administration has also proposed the first comprehensive update to the regulations that implement the National Environmental Policy Act in more than 40 years. These new regulations will codify important aspects of the One Federal Decision policy to reduce the average time to complete an environmental impact statement through increased interagency coordination, cooperation, and communication within the Federal Government without sacrificing environmental protection.

As a Nation, we must revitalize our crumbling infrastructure to promote commerce, protect public safety, and enhance our national defense. Our country's security and prosperity are inextricably linked, and the ability to move and travel freely throughout the country helps to ensure our Nation's preparedness and military readiness. Americans deserve nothing less than the most efficient, modern, and safe transportation infrastructure system that stimulates economic growth, creates jobs, supports the delivery of necessities during times of crises like these, and effectively facilitates the flow of supplies and equipment to our service members. My Administration looks forward to working with the Congress to invest in the repair and modernization of our transportation infrastructure.

To recognize the men and women who work in the transportation industry and who contribute to our Nation's well-being and defense, the Congress, by joint resolution approved May 16, 1957, as amended (36 U.S.C. 120), has designated the third Friday in May of each year as “National Defense Transportation Day,” and, by joint resolution approved May 14, 1962, as amended (36 U.S.C. 133), has declared that the week during which that Friday falls be designated as “National Transportation Week.” In the midst of the coronavirus pandemic, the dedication and patriotism of our Nation's transportation workers have never been more evident as they risk their own health to ensure that grocery store shelves stay stocked and healthcare professionals receive essential products and equipment.

NOW, THEREFORE, I, DONALD J. TRUMP, President of the United States of America, do hereby proclaim Friday, May 15, 2020, as National Defense Transportation Day and May 10 through May 16, 2020, as National Transportation Week. I encourage all Americans to celebrate these observances with appropriate ceremonies and activities to learn more about how our transportation system contributes to the security of our citizens and the prosperity of our Nation.

IN WITNESS WHEREOF, I have hereunto set my hand this eighth day of May, in the year of our Lord two thousand twenty, and of the Independence of the United States of America the two hundred and forty-fourth.

[FR Doc. 2020-10425

Filed 5-12-20; 11:15 am]

Billing code 3295-F0-P